DEPARTMENT OF ENERGY

Federal Energy Regulatory Commission

[Docket No. CP-241-001]

ANR Pipeline Company; Notice of Application

January 12, 2000.

Take notice that on January 10, 2000, ANR Pipeline Company (ANR), 500 Renaissance Center, Detroit, Michigan 48243, filed in Docket No. CP-241-001 an Amendment to Application for a certificate of Public Convenience and Necessity pursuant to Section 7(c) of the Natural Gas Act and Section 385.215 of the Commission's regulations. By the amendment, ANR seeks to modify its original certificate application to seek authorization to construct and operate the facilities described therein in two phases. In Phase I, ANR proposes to install, by November 1, 2000, the two proposed 10,000 HP Compressor units at the Woodstock Compressor Station, which would provide a total of 109 Mdth per day of additional system capacity. In Phase II, ANR proposes that the remaining facilities for which ANR sought certification in its Application be constructed at a later time, all as more fully set forth in the application which is on file with the Commission and open to public inspection. This filing may be viewed on the web at http://www.ferc.fed.us/online/rims.htm (call 202-208-2222 for assistance).

ANR states the amendment is necessary because several events have occurred since the Application was filed which necessitate its request for phasing the construction of the these facilities. First, ANR states that the Application assumed that prior to the certification of the facilities in this docket, the Commission would have certificated ANR's SupplyLink project in Docket No. CP97-397-000. ANR states that, however, the SupplyLink facilities have not yet been certificated. Also, ANR states, since the time the Application was filed, one shipper has informed ANR that it will not need deliveries of gas until November 2001, and another has terminated its precedent agreement. As a result, there will be three shippers with total requirements of 59 Mdth per day on November 1, 2000, and a fourth who will require an additional 25 Mdth per day on November 1, 2001.

To serve these customers, ANR proposes to install, as Phase I of this project, the two proposed 10,000 HP Compressor units at the Woodstock Compressor Station. According to ANR, installation of these compressors will provide a total of 109 Mdth per day. ANR states that this capacity will permit it to serve November 1, 2000 shippers, and will allow it to meet its obligations to provide the additional 25 Mdth per day which one of the shippers will need on November 1, 2001. ANR states that the remainder of the capacity will afford ANR flexibility to meet near term demands for additional capacity into Wisconsin. However, with the phasing approval requested herein, ANR believes that certification of the remaining Phase II facilities can, at this juncture, be deferred pending further Commission action on the SupplyLink facilities.

ANR Pipeline Company has authorized the individual listed below to be its contact person for information regarding this application: Richard W. Porter, Assistant Vice President, ANR Pipeline Company, 500 Renaissance Center, Detroit Michigan 48243, Tel. 313-496-2473, Fax. 313-496-5141, E-mail: richard.porter@coastalcorp.com.

Any person desiring to be heard or to make any protest with reference to said Application should on or before February 2, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

A person obtaining intervenor status will be placed on the service list maintained by the Secretary of the Commission and will receive copies of all documents issued by the Commission, filed by the applicant or filed by other intervernors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intevenor status.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, or if the Commission on its own review of the matter finds that permission and approval for the proposed certificate are required by the public convenience and necessity. If a motion for leave to intervene is timely filed, or if the Commission on its motion believes that a formal hearing is required, further notice of such hearing will be duly given.

Under the procedure herein provided for, unless otherwise advised, it will be unnecessary for ANR to appear or be represented at the hearing.

Linwood A. Watson, Jr.,
Acting Secretary.

[FR Doc. 00-1177 Filed 1-18-00; 8:45 am]

BILLING CODE 6717-01-M